DEPARTMENT OF AGRICULTURE

Forest Service

Information Collection; Community Wood Energy and Wood Innovation Program (CFDA 10.708)

AGENCY: Forest Service, Agriculture (USDA).

ACTION: Notice; request for comment.

SUMMARY: Information collection form FS-1500-0051 is currently used by the Forest Service, United States Department of Agriculture (USDA), to evaluate eligibility and proposed activities of applicants seeking financial support under the Community Wood Energy and Wood Innovation Program. This announcement requests public input on the Forest Service's request to continue to use form FS-1500-0051 which has been approved by the Office of Management and Budget for use through July 31, 2023. The intent of the Community Wood Energy and Wood Innovation Program is to support forest health and stimulate local economies by expanding renewable wood energy use and innovative wood products manufacturing capacity.

DATES: Comments related to the collection of information must be submitted by July 17, 2023 to be assured of consideration. Comments received after that date will be considered to the extent practicable.

ADDRESSES: Comments concerning this notice should be addressed to: Julie Tucker, USDA, Forest Service, Cooperative Forestry, 201 14th Street SW, 3NW Washington, DC 20250. Comments may also be submitted via email to: julie.tucker@usda.gov.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect comments received at USDA Forest Service, Washington Office, during normal business hours. Visitors are encouraged to call ahead to 202-205-0995 to facilitate entry to the building. The public may request an electronic copy of the draft supporting statement and/or any comments received by emailing the request to julie.tucker@usda.gov.

FOR FURTHER INFORMATION CONTACT: Julie Tucker, National Program Manager, Community Wood Energy and Wood Innovation Program, Cooperative Forestry, at 202-253-6483 or by electronic mail to julie.tucker@usda.gov. Individuals who use telecommunication devices for the deaf and hard of hearing (TDD) may call the Federal Relay Service (FRS) at 800-877-8339, 24 hours a day, every day of the year, including holidays.

SUPPLEMENTARY INFORMATION: The grants and agreements awarded under this announcement will support the Rural Revitalization Technologies (7 U.S.C. 6601) and Agriculture Improvement Act of 2018 (Pub. L. 115-334 Section 9013), and Infrastructure Investment and Jobs Act (also known as the Bipartisan Infrastructure Law, Pub. L. 117-58 Division J Title VI), which supports the installation of thermally-led community wood energy systems or development and expansion of innovative wood product facilities. The intent of the Community Wood Energy and Wood Innovation Program is to support forest health and stimulate local economies by expanding renewable wood energy use and innovative wood products manufacturing capacity.

Eligible applicants are non-profits; local, state, and tribal governments; businesses, companies, corporations (for profit); institutions of higher education; and special purpose districts (public utility districts, fire districts, conservation districts, school districts, and ports.)

Title: Community Wood Energy and Wood Innovation Program.

OMB Number: 0596-0257.

Expiration Date of Approval: 07/31/2023.

Type of Request: Extension with no Revision of a currently approved information collection.

Abstract: This solicitation is authorized pursuant to the Rural Revitalization Technologies (7 U.S.C. 6601) and Agriculture Improvement Act of 2018 (Pub. L. 115-334, Title VIII, Subtitle F, Part III), and Infrastructure Investment and Jobs Act (also known as the Bipartisan Infrastructure Law, Pub. L. 117-58 Division J Title VI), which directly support installation of thermally led community wood energy systems or development and expansion of innovative wood product facilities to promote forest health and stimulate local economies.

Affected Public: Individuals and Households, the Private Sector (Businesses and Non-Profit Organizations), and/or State, Local or Tribal Government.

Burden Hours for Public Applicants

Title of Collection: Burden Hours for FS-1500-0051: Community Wood Funding Opportunity Application.

Estimate of Annual Burden: 48.00 hours.

Type of Respondents: Public applicants.

Estimated Annual Number of Respondents: 16.

Estimated Annual Number of Responses per Respondent: 1.

Estimated Total Annual Burden on Respondents: 3.00 hours.

Title of Collection: Burden Hours for Screenshot of active or in-process SAM.gov registration.

Estimate of Annual Burden: 16.00 hours.

Type of Respondents: Public applicants.

Estimated Annual Number of Respondents: 16.

Estimated Annual Number of Responses per Respondent: 1.

Estimated Total Annual Burden on Respondents: 1 hour.

Total Annual Burden for FS-1500-51 and Screenshot of Sam Is 64 Hours

Request for Common Use Forms

Title of Collection: Burden Hours for FS-1500-35: Certificate Regarding Lobbying Activities.

Estimate of Annual Burden: 4.00 hours.

Type of Respondents: Public applicants.

Estimated Annual Number of Respondents: 16.

Estimated Annual Number of Responses per Respondent: 1.

Estimated Total Annual Burden on Respondents: 0.25 hours.

Title of Collection: Burden Hours for FS-1500-22: Financial Capability Questionnaire.

Estimate of Annual Burden: 4.00 hours.

Type of Respondents: Public applicants.

Estimated Annual Number of Respondents: 16.

Estimated Annual Number of Responses per Respondent: 1.

Estimated Total Annual Burden on Respondents: 0.25 hours.

Title of Collection: Burden Hours for FS-1500-23: Optional Project Performance Report.

Estimate of Annual Burden: 48.00 hours.

Type of Respondents: Public applicants.

Estimated Annual Number of Respondents: 16.

Estimated Annual Number of Responses per Respondent: 1.

Estimated Total Annual Burden on Respondents: 3.00 hours.

Burden Hours for Tribal and State Applicants

Title of Collection: Burden Hours for FS-1500-0051: Community Wood Funding Opportunity Application.

Estimate of Annual Burden: 24.00 hours.

Type of Respondents: Tribal and State applicants.

Estimated Annual Number of Respondents: 8.

Estimated Annual Number of Responses per Respondent: 1.

Estimated Total Annual Burden on Respondents: 3.00 hours.

Title of Collection: Burden Hours for Screenshot of active or in-process SAM.gov registration.

Estimate of Annual Burden: 8.00 hours.

Type of Respondents: Tribal and State applicants.

Estimated Annual Number of Respondents: 8.

Estimated Annual Number of Responses per Respondent: 1.

Estimated Total Annual Burden on Respondents: 1 hour.

Title of Collection: Burden Hours for FS-1500-35: Certificate Regarding Lobbying Activities.

Estimate of Annual Burden: 4.00 hours.

Type of Respondents: Tribal and State applicants.

Estimated Annual Number of Respondents: 8.

Estimated Annual Number of Responses per Respondent: 1.

Estimated Total Annual Burden on Respondents: 0.25 hours.

Title of Collection: Burden Hours for FS-1500-22: Financial Capability Questionnaire.

Estimate of Annual Burden: 2.0 hours.

Type of Respondents: Tribal and State applicants.

Estimated Annual Number of Respondents: 8.

Estimated Annual Number of Responses per Respondent: 1.

Estimated Total Annual Burden on Respondents: 0.25 hours.

Title of Collection: Burden Hours for FS-1500-23: Optional Project Performance Report.

Estimate of Annual Burden: 24.00 hours.

Type of Respondents: Tribal and State applicants.

Estimated Annual Number of Respondents: 8.

Estimated Annual Number of Responses per Respondent: 1.

Estimated Total Annual Burden on Respondents: 3.00 hours.

Total Annual Burden for Request for Common Use Forms Is 118 Hours

Comment Is Invited: Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Jaelith Hall Rivera,
Deputy Chief, State, Private, and Tribal Forestry.

[FR Doc. 2023-10451 Filed 5-16-23; 8:45 am]

BILLING CODE 3411-15-P